DEPARTMENT OF JUSTICE

Office of Justice Programs

[OJP (OJP) Docket No. 1813]

Meeting of the Global Justice Information Sharing Initiative Federal Advisory Committee

AGENCY: Office of Justice Programs (OJP), Justice.

ACTION: Notice of meeting.

SUMMARY: This is an announcement of a meeting of the Global Justice Information Sharing Initiative (Global) Federal Advisory Committee (GAC) to discuss the Global Initiative, as described at https://bja.ojp.gov/program/it/global.

DATES: The meeting will take place on Thursday, September 21, 2023 from 9:00 a.m. until 3:30 p.m. ET, and Friday, September 22, 2023 from 9:00 a.m. until 12:00 p.m. ET.

ADDRESSES: This meeting will be held at the Homeland Security and Emergency Management Agency (HSEMA), 1015 Half Street SE, 10th Floor, Washington, DC 20003. Approved observers will receive an invitation and instructions for entering the building.

FOR FURTHER INFORMATION CONTACT: Mr. David P. Lewis, Global Designated Federal Official (DFO), Bureau of Justice Assistance, Office of Justice Programs, 810 7th Street, Washington, DC 20531; Phone (202) 616-7829 [note: this is not a toll-free number]; Email: david.p.lewis@usdoj.gov.

SUPPLEMENTARY INFORMATION: This meeting is open to the public, however, members of the public who wish to attend this meeting must register with Mr. David P. Lewis at least (7) days in advance of the meeting. Access to the meeting room will not be allowed without prior authorization. All attendees will be required to sign-in and go through security before they will be admitted to the meeting.

Anyone requiring special accommodations should notify Mr. Lewis at least seven (7) days in advance of the meeting.

Purpose: The GAC will act as the focal point for justice information systems integration activities in order to facilitate the coordination of technical, funding, and legislative strategies in support of the Administration's justice priorities.

The GAC will guide and monitor the development of the Global information sharing concept. It will advise the Assistant Attorney General, OJP; the Attorney General; the President (through the Attorney General); and local, state, tribal, and federal policymakers in the executive, legislative, and judicial branches. The GAC will also advocate for strategies for accomplishing a Global information sharing capability.

Interested persons whose registrations have been accepted may be permitted to participate in the discussions at the discretion of the meeting chairman and with approval of the Global DFO.

David P. Lewis,
Global DFO, Senior Policy Advisor, Bureau of Justice Assistance, Office of Justice Programs, U.S. Department of Justice.

[FR Doc. 2023-17864 Filed 8-18-23; 8:45 am]

BILLING CODE 4410-18-P